DEPARTMENT OF THE INTERIOR

Fish and Wildlife Service

Notice of Availability, Restoration Plan

AGENCY: Fish and Wildlife Service, Department of the Interior.

ACTION: Notice of availability.

SUMMARY: The U.S. Fish and Wildlife Service (Service), on behalf of the Department of the Interior and the State of New Hampshire, announces the release for public review of the draft Restoration Plan (Plan) for the South Municipal Wellfield Superfund Site (Site). The Plan describes the trustees' proposal to restore natural resources injured as a result of the release of hazardous substances from the Site.

DATES: Written comments must be submitted on or before June 1, 2000.

ADDRESSES: Requests for copies of the Plan may be made to: U.S. Fish and Wildlife Service, New England Field Office, 22 Bridge Street, Unit 1, Concord, New Hampshire 03301.

Written comments or materials regarding the Plan should be sent to the same address.

FOR FURTHER INFORMATION CONTACT: Molly B. Sperduto or Kenneth C. Carr, Environmental Contaminants Program, U.S. Fish and Wildlife Service, 22 Bridge Street, Unit 1, Concord, New Hampshire 03301.

Interested parties may also call (603) 225-1411 for further information.

SUPPLEMENTARY INFORMATION: The South Municipal Wellfield Superfund Site, is located in Peterborough, New Hampshire. Contamination from an on-Site ball bearings manufacturing facility, including volatile organic compounds, polychlorinated biphenyls and polycyclic aromatic hydrocarbons, adversely affected adjacent wetlands. These wetlands were impaired due to food web contamination or the reduction and/or loss of their biological diversity and productivity. In turn, injury to wetland-dependent wildlife, primarily migratory birds, occurred.

In 1995, the United States of America settled claims for natural resource damages associated with the South Municipal Wellfield Superfund Site under the authority of the Comprehensive Environmental Response, Compensation, and Liability Act (CERCLA) of 1980. The settlement proceeds will be used to compensate for injury, destruction, or loss of natural resources under trusteeship of the Department of the Interior and the State of New Hampshire. The Plan is being released in accordance with the Natural Resource Damage Assessment Regulations found at 15 CFR part 990. It is intended to describe the trustees' proposals to restore natural resources injured as a result of releases of contaminants from the Site.

The Plan describes a number of habitat restoration and protection alternatives and discusses the environmental consequences of each. The primary goal is to implement a restoration project that compensates for impacts to wetlands that provide habitat for migratory birds. Based on an evaluation of the various restoration alternatives, acquisition of equivalent resources is the preferred alternative. This alternative maximizes the benefit to wetland-dependent wildlife, preventing the imminent destruction and degradation of an extensive wetland system. The trustees believe that the proposed action will not have significant impacts on the quality of the physical, biological, and cultural environment.

Interested members of the public are invited to review and comment on the Plan. Copies of the Plan are available for review at the U.S. Fish and Wildlife Service's New England Field Office in Concord, New Hampshire (22 Bridge Street, Unit 1, Concord, New Hampshire). Additionally, the Plan will be available for review at the Peterborough Town Library. Written comments will be considered and addressed in the final Plan at the conclusion of the restoration planning process.

Authority: The authority for this action is the Comprehensive Environmental Response, Compensation and Liability Act of 1980, as amended (“CERCLA”), 42 U.S.C.

Dated: April 14, 2000.
Ronald E. Lambertson,
Regional Director, Region 5, U.S. Fish and Wildlife Service.

[FR Doc. 00-9948 Filed 4-20-00; 8:45 am]

BILLING CODE 4310-55-M